DEPARTMENT OF THE INTERIOR

National Park Service

[NPS-WASO-NAGPRA-23967; PPWOCRADN0-PCU00RP14.R50000]

Notice of Inventory Completion: The Florida Department of State, Division of Historical Resources, Tallahassee, FL

AGENCY: National Park Service, Interior.

ACTION: Notice.

SUMMARY: The Florida Department of State, Division of Historical Resources, has completed an inventory of human remains, in consultation with the appropriate Indian Tribes or Native Hawaiian organizations, and has determined that there is no cultural affiliation between the human remains and any present-day Indian Tribes or Native Hawaiian organizations. Representatives of any Indian Tribe or Native Hawaiian organization not identified in this notice that wish to request transfer of control of these human remains should submit a written request to the Florida Department of State, Division of Historical Resources. If no additional requestors come forward, transfer of control of the human remains to the non-federally recognized Indian group stated in this notice may proceed.

DATES: Representatives of any Indian Tribe or Native Hawaiian organization not identified in this notice that wish to request transfer of control of these human remains should submit a written request with information in support of the request to the Florida Department of State, Division of Historical Resources, at the address in this notice by October 23, 2017.

ADDRESSES: Jason O'Donoughue, Florida Department of State, Division of Historical Resources, The Governor John Martin House, 1001 De Soto Park Drive, Tallahassee, FL 32301, telephone (850) 245-6481, email Jason.ODonoughue@dos.myflorida.com.

SUPPLEMENTARY INFORMATION: Notice is here given in accordance with the Native American Graves Protection and Repatriation Act (NAGPRA), 25 U.S.C. 3003, of the completion of an inventory of human remains under the control of the Florida Department of State, Division of Historical Resources, Tallahassee, FL. The human remains were removed from a site in Queens County, Long Island, NY.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Florida Department of State, Division of Historical Resources, professional staff in consultation with the Unkechaug Indian Nation and the Matinecock Tribe of Long Island, both of which are non-federally recognized Indian groups. The Shinnecock Indian Nation was invited to participate but was not involved in consultations.

History and Description of the Remains

At an unknown date, human remains representing, at minimum, one individual were removed from an unknown site in Long Island, Queens County, NY, and were subsequently donated to the Museum of Arts and Sciences in Daytona Beach. The Florida Department of State, Division of Historical Resources, assumed jurisdiction over these human remains pursuant to Section 872.05, Florida Statutes. The human remains were determined to be from a Native American individual based on the labeling on the mandible stating “MATINICACK INDIN LONG ISLAND.” The Matinecock are a Native American group who are historically documented on Long Island and connected through kinship to the other Long Island Nations including the Unkechaug, Shinnecock, and Montaukett. Historical evidence suggests that the human remains may have come from a Matinecock cemetery that was removed in 1931 and 1932, when Northern Boulevard was widened in Queens Borough, Long Island, NY. The burials belonging to that cemetery were reportedly relocated to another cemetery. Descendants of people buried in the cemetery note that some of the human remains and items removed during the exhumations were not reburied. The Museum of Arts and Sciences in Daytona Beach lacked accession records from many of its older collections. The spelling of “Matinicack Indin” on the label of the mandible suggests that the human remains were collected by a non-professional archeologist or anthropologist who, on information or belief, determined that they were affiliated with the Matinecock. No other provenience information is available. No known individual was identified. No associated funerary objects are present.

Pursuant to 43 CFR 10.16, the Secretary of the Interior may recommend transfer of control of culturally unidentifiable human remains. In September 2016, the Florida Department of State, Division of Historical Resources, requested that the Secretary, through the Native American Graves Protection and Repatriation Review Committee, recommend the proposed transfer of control of the culturally unidentifiable Native American human remains in this notice to the Unkechaug Indian Nation, a non-federally recognized Indian group. The Review Committee, acting pursuant to its responsibility under 25 U.S.C. 3006(c)(5), considered the request at its March 2017 meeting and recommended to the Secretary that the proposed transfer of control proceed. An April 2017 letter on behalf of the Secretary of Interior from the National Park Service Associate Director for Cultural Resources, Partnerships, and Science transmitted the Secretary's independent review and concurrence with the Review Committee that:

• No Indian Tribes or Indian groups objected to the proposed transfer of control, and

• the Florida Department of State, Division of Historical Resources, may proceed with the agreed upon transfer of control of the culturally unidentifiable human remains to the Unkechaug Indian Nation, a non-federally recognized Indian group.

Transfer of control is contingent on the publication of a Notice of Inventory Completion in the Federal Register. This notice fulfills that requirement.

Determinations Made by the Florida Department of State, Division of Historical Resources

Officials of the Florida Department of State, Division of Historical Resources, have determined that:

• Pursuant to 25 U.S.C. 3001(9), the human remains described in this notice are Native American based on contextual and historical information.

• Pursuant to 25 U.S.C. 3001(9), the human remains described in this notice represent the physical remains of one individual of Native American ancestry.

• Pursuant to 25 U.S.C. 3001(2), a relationship of shared group identity cannot be reasonably traced between the Native American human remains and any present-day Indian Tribe.

• Pursuant to 43 CFR 10.11(c)(1), a “tribal land” or “aboriginal land” provenience cannot be ascertained.

• Pursuant to 43 CFR 10.10(g)(2)(ii) and 43 CFR 10.16, the disposition of the human remains will be to the Unkechaug Indian Nation, a non-federally recognized Indian group.

Additional Requestors and Disposition

Representatives of any Indian Tribe or Native Hawaiian organization not identified in this notice that wish to request transfer of control of these human remains should submit a written request with information in support of the request to Jason O'Donoughue, Florida Department of State, Division of Historical Resources, The Governor John Martin House, 1001 De Soto Park Drive, Tallahassee, FL 32301, telephone (850) 245-6481, email Jason.ODonoughue@dos.myflorida.com, by October 23, 2017. After that date, if no additional requestors have come forward, transfer of control of the human remains to the Unkechaug Indian Nation, a non-federally recognized Indian group, may proceed.

The Florida Department of State, Division of Historical Resources, is responsible for notifying the Shinnecock Indian Nation, the Unkechaug Indian Nation, and the Matinecock Tribe of Long Island that this notice has been published.

Dated: August 8, 2017.
Melanie O'Brien,
Manager, National NAGPRA Program.

[FR Doc. 2017-20300 Filed 9-21-17; 8:45 am]

BILLING CODE 4312-52-P